ENVIRONMENTAL PROTECTION AGENCY

40 CFR Part 300

[EPA-HQ-SFUND-2009-0146; FRL-8926-1]

National Oil and Hazardous Substances Pollution Contingency Plan; National Priorities List

AGENCY: Environmental Protection Agency (EPA).

ACTION: Direct Final Notice of Deletion of the Wilson Farm Superfund Site (Site) from the National Priorities List.

SUMMARY: EPA, Region 2, is publishing a direct final notice of deletion of the Site, located in Plumsted Township, Ocean County, New Jersey, from the National Priorities List (NPL). The NPL, promulgated pursuant to section 105 of the Comprehensive Environmental Response, Compensation, and Liability Act (CERCLA) of 1980, as amended, is an appendix of the National Oil and Hazardous Substances Pollution Contingency Plan (NCP). This direct final Notice of Deletion is being published by EPA with the concurrence of the State of New Jersey, through the Department of Environmental Protection (NJDEP). EPA and NJDEP have determined that all appropriate remedial actions under CERCLA, including operation and maintenance, have been implemented.

DATES: This direct final deletion will be effective September 8, 2009 unless EPA receives significant adverse comments by August 6, 2009. If significant adverse comments are received, EPA will publish a timely withdrawal of this direct final deletion in the Federal Register, informing the public that the deletion will not take effect.

ADDRESSES: Submit your comments, identified by Docket ID no. EPA-HQ-SFUND-2009-0146, by one of the following methods:

Web Site: http://www.regulations.gov. Follow the on-line instructions for submitting comments.

E-mail: zeolla.michael@epa.gov.

Fax: To the attention of Michael Zeolla at (212) 637-4393.

Mail: To the attention of Michael Zeolla, Remedial Project Manager, Emergency and Remedial Response Division, U.S. Environmental Protection Agency, Region 2, 290 Broadway, 19th Floor, New York, New York 10007-1866.

Hand Delivery: Superfund Records Center, 290 Broadway, 18th Floor, New York, NY 10007-1866 (telephone: 212-637-4308). Such deliveries are only accepted during the Docket's normal hours of operation (Monday to Friday from 9 a.m. to 5 p.m.). Special arrangements should be made for deliveries of boxed information.

Instructions: Direct your comments to Docket ID no. EPA-HQ-SFUND-2009-0146; EPA' policy is that all comments received will be included in the Docket without change and may be made available online at http://www.regulations.gov, including any personal information provided, unless the comment includes information claimed to be Confidential Business Information (CBI) or other information whose disclosure is restricted by statute. Do not submit information that you consider CBI or otherwise protected through http://www.regulations.gov or via e-mail. The http://www.regulations.gov Web site is an “anonymous access” system, which means EPA will not know your identity or contact information unless you provide it in the body of your comments. If you send comments to EPA via e-mail, your e-mail address will be included as part of the comment that is placed in the Docket and made available on the Web Site. If you submit electronic comments, EPA recommends that you include your name and other contact information in the body of your comment and with any disk or CD-ROM that you submit. If EPA cannot read your comment due to technical difficulties and cannot contact you for clarification, EPA may not be able to consider your comments. Electronic files should avoid the use of special characters, any form of encryption, and be free of any defects or viruses.

Docket: All documents in the Docket are listed in the http://www.regulations.gov index. Although listed in the index, some information is not publicly available, e.g., CBI or other information whose disclosure is restricted by statute. Certain other material, such as copyrighted material, will be publicly available only in the hard copy. Publicly available docket materials can be available either electronically in http://www.regulations.gov or in hard copy at:

U.S. Environmental Protection Agency, Region 2, Superfund Records Center, 290 Broadway, 18th Floor, New York, NY 10007-1866, Phone: (212) 637-4308, Hours: Monday to Friday from 9 a.m. to 5 p.m., and

New Jersey Department of Environmental Protection, 401 East State Street, Trenton, New Jersey 08625-0410, Phone: 609-777-3373.

FOR FURTHER INFORMATION CONTACT: Michael Zeolla, Remedial Project Manager, Emergency and Remedial Response Division, U.S. Environmental Protection Agency, Region 2, 290 Broadway, 19th Floor, New York, New York 10007-1866, telephone at (212) 637-4376; fax at (212) 637-4393; or e-mail at: zeolla.michael@epa.gov.

SUPPLEMENTARY INFORMATION:

Table of Contents

I. Introduction

II. NPL Deletion Criteria

III. Deletion Procedures

IV. Basis for Intended Site Deletion

V. Deletion Action

I. Introduction

EPA Region 2 is publishing this direct final notice of deletion of the Wilson Farm Superfund Site (Site) from the National Priorities List (NPL). The NPL constitutes Appendix B of 40 CFR part 300, which is the Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). As described in 300.425(e)(3) of the NCP, a site deleted from the NPL remains eligible for remedial actions if conditions at the site warrant such action.

Because EPA considers this action to be noncontroversial and routine, this action will be effective September 8, 2009 unless EPA receives significant adverse comments by August 6, 2009. Along with this direct final Notice of Deletion, EPA is co-publishing the Notice of Intent to Delete in the “Proposed Rule” section of today's Federal Register. If adverse comments are received within the 30-day public comment period on this deletion action, EPA will publish a timely withdrawal of this direct final notice of deletion before the effective date of the deletion and the deletion will not take effect. EPA will, as appropriate, prepare a response to comments and continue with the deletion process on the basis of the Notice of Intent to Delete and the comments already received. There will be no additional opportunity to comment.

Section II of this document explains the criteria for deleting sites from the NPL. Section III discusses procedures that EPA is using for this action. Section IV discusses the Site and demonstrates how it meets the deletion criteria. Section V discusses EPA's action to delete the Site from the NPL unless significant adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the state, whether any of the following criteria have been met:

i. Responsible parties or other parties have implemented all appropriate response actions required;

ii. All appropriate Fund-financed responses under CERCLA have been implemented, and no further action by responsible parties is appropriate; or

iii. The remedial investigation has shown that the release poses no significant threat to public health or the environment and, therefore, implementing remedial measures is not appropriate.

III. Deletion Procedures

The following procedures apply to deletion of this Site.

(1) EPA consulted with the State of New Jersey prior to developing this direct final Notice of Deletion and the Notice of Intent to Delete co-published today in the “Proposed Rules” section of the Federal Register.

(2) EPA has provided the State of New Jersey thirty (30) working days for review of this notice and the parallel Notice of Intent to Delete prior to their publication today, and the State of New Jersey, through the NJDEP, has concurred on the deletion of the Site from the NPL.

(3) Concurrently with the publication of this direct final Notice of Deletion, a notice of the availability of the parallel Notice of Intent to Delete is being published in a major local newspaper, the Ocean County Observer. The newspaper notice announces the 30-day public comment period concerning the Notice of Intent to Delete the Site from the NPL.

(4) EPA placed copies of documents supporting the proposed deletion in the deletion docket and made these items available for public inspection and copying at the Site information repositories identified above.

(5) If adverse comments are received within the 30-day public comment period on this deletion action, EPA will publish a timely notice of withdrawal of this direct final Notice of Deletion before its effective date and will prepare a response to comments. If appropriate, EPA may then continue with the deletion process based on the Notice of Intent to Delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following summary provides the Agency's rationale for the proposal to delete this Site from the NPL.

Site Background and History

The Site consists of 10 acres within a 218-acre property and is located one-quarter mile southwest from the intersection of State Highway Route 528 (New Egypt-Lakewood Road) and Hawkin Road (State Highway Route 640) in Plumsted Township, Ocean County, New Jersey. The Site is situated in a predominantly rural area with some residential homes to the south. The 10-acre site, bordered on the north side by cultivated land which is part of the Wilson Farm property, is wooded and unoccupied. A dirt road runs through the center of the Site, which allows access into the property from Hawkin Road. The Site has a number of unimproved roadways in and around it and is used mainly for hunting. Colliers Mills Wildlife Management Area is east of the Site and consists of forested undeveloped property that runs north and south along Hawkin Road. Borden Run Creek runs west and south of the site and flows into Colliers Mills Lake. At the northern edge of the Site towards New Egypt/Lakewood Road is an active farm field and beyond that a small residential neighborhood. The Site is located within the boundaries of a national reserve known as the “Pinelands.” The Pinelands reserve is separated into “Management Areas.”

The Wilson Farm property was one of seven sites used to dispose of liquid and drummed chemical waste from the Thiokol Corporation facility during the 1960's and early 1970's. The property on which the Site is located is privately owned and has been posted with “No Trespassing Signs.”

The Site was inspected by the Ocean County Health Department and New Jersey Department of Environmental Protection (NJDEP) in February 1980, which led to the implementation of an Immediate Removal Action in September 1980. Approximately 620 cubic yards of mixed chemical waste material and soils were removed from the Site. Prior to the Immediate Removal Action, NJDEP had installed and sampled six groundwater monitoring wells in July 1980. Groundwater from these monitoring wells was found to contain chemical contamination.

In December 1982, the NJDEP scored the Site utilizing the Hazard Ranking System. Based on this ranking, the Site was added to the NPL on September 21, 1984 (FRL-2646-2).

In 1986, the NJDEP established a Well Restriction Area (WRA) on the Site and surrounding properties in order to protect any new drinking water wells which might be installed near the Site. The WRA required that all new wells within approximately a 2,000-foot radius of the Site be installed to a depth of at least 150 feet. The purpose of this action was to ensure that new wells were not impacted by contamination in the shallow aquifer.

Remedial Investigation and Feasibility Study (RI/FS)

In July 1986, the NJDEP directed Morton Thiokol Inc. (Thiokol merged with Morton Norwich Corporation) to make payments to the NJDEP for the cost of conducting a Remedial Investigation and Feasibility Study (RI/FS) at the Site. On December 3, 1987, the NJDEP and Morton Thiokol Inc. (MTI) entered into an Administrative Consent Order (ACO) in which MTI agreed to comply with this Directive (Directive No. 1).

In January 1987, Acres International Corporation (Acres) was contracted by the NJDEP to perform the RI/FS. After initial site investigations were performed, NJDEP determined that further remedial studies were necessary. In January 1990, the NJDEP directed Morton International Incorporated (MII) and the Thiokol Corporation (after Directive No. 1 was issued, MTI split into MII and Thiokol) to pay for the additional studies. MII complied and the RI/FS was completed by Acres in March 1992.

The RI/FS identified that approximately six to twelve cubic yards of industrial waste, including a black rubbery tar-like substance and miscellaneous laboratory glassware, to a depth of six inches, still remained at the Site. No buried waste was encountered. The RI/FS found that this waste did not present a risk to human health or the environment.

On August 23, 1991, the NJDEP and MII entered into a second ACO for the removal of the remaining contaminated surface waste materials at the Site. MII prepared and submitted an Interim Removal Action Plan to the NJDEP and EPA in October 1991. The final removal activities were agreed to between NJDEP and MII in May 1992.

The surficial waste removal activities were conducted at the Site between June and July 1992. Approximately 645 cubic yards of waste/soil material was removed and transported for treatment and disposal to a federally permitted hazardous waste landfill. A comparison of the post-excavation soil sample analytical results to the NJDEP proposed cleanup goals for residential surface soils confirmed the effectiveness of the removal work. In October 1993, MII restored all areas disturbed by the removal activities through back-filling and grading soils and re-vegetating. A final surficial waste removal report was submitted by MII in February 1994.

After completing the Interim Removal Action, EPA conducted a baseline risk assessment to evaluate the potential risks to human health and the environment for residual contaminants in the soil, groundwater, surface water and sediments. EPA issued the final Risk Assessment Report on May 3, 1993.

Selected Remedy

Based on this Risk Assessment Report, EPA concurred on a “No Further Action” Record of Decision (ROD) which was issued by NJDEP on August 2, 1993. The selected remedy included implementing a groundwater, surface water and sediment monitoring program for five years to ensure that any residual contamination remained below levels of concern and confirmed the no action determination. Visual inspection of the Site during monitoring was also conducted to ensure that no further waste materials were present. Lastly, the ROD called for continuation of the WRA for a minimum of five years to ensure the protection of area drinking water supplies.

Response Action

Pursuant to the remedy selected in the ROD, MII and the NJDEP entered into a Memorandum of Agreement (MOA) on August 25, 1994, to perform post-remediation monitoring activities. A Post-Remediation Monitoring Work Plan was submitted by MII in October 1994. A final post-remediation monitoring work plan was approved in January 1995.

The five years of monitoring, as outlined in the ROD, began in May 1995 with the first quarterly sampling event and continued until September 1999. The monitoring consisted of collecting samples at ten monitoring wells and three surface water and sediment locations on a quarterly basis in the first year and on an annual basis in 1996, 1997, 1998 and 1999. During each sample event, the Site was inspected for any evidence of remaining surface waste material that would then be removed.

After five years of monitoring, site contaminants remained below Federal Maximum Contaminant Levels (MCLs). Since the Site is located in New Jersey's Pinelands Protection Area, the aquifer is classified by the NJDEP as Class I-PL under its Groundwater Quality Criteria Standards (GWQS). Class I-PL standards are defined as the higher of the Practical Quantitative Levels (PQLs) or background levels. NJDEP requires groundwater sample results to indicate concentrations are below the PQL. The GWQS establish anti-degradation policies that are designed to protect the existing and designated uses of the State of New Jersey ground waters and are not considered health-based Federal MCLs.

A review of the post-remediation monitoring results revealed that lead in MW-5S, and chloroform in MW-8S were present above the PQLs for all sampling events. Lead concentrations were detected above the PQL of 10 ppb (5 ppb is now the current standard) in MW-5S and ranged from 14.5 ppb (2nd sample event) to 94.9 ppb (6th sample event). Chloroform concentrations were detected above the PQL of 1 ppb and ranged from 1.2 ppb (7th sample event) to 6.2 ppb (2nd sample event). Due to these groundwater concentrations above the PQL, NJDEP recommended that Rohm and Haas (which acquired MII) conduct additional investigative activities including soil and groundwater sampling around MW-5S and MW-8S for lead and chloroform, respectively.

A Supplemental Groundwater Investigation (SGI) was conducted by ENSR (on behalf of the Rohm and Hass Company which acquired MII) in October 2004. The SGI consisted of collecting sixteen subsurface soil samples around MW-5S and MW-8S, four groundwater samples from temporary wells MW-5S-5, MW-5S-6, MW-8S-2 and MW-8S-4, and four surface water and sediments samples in Borden Run Creek. The results of sampling found non-detect levels of Site contaminants in the surface water, sediments and soils. In a March 18, 2005 letter, NJDEP concluded that no further monitoring of the Site surface water, sediments or soils was required but recommended that a Classification Exemption Area (CEA) be proposed for the Site groundwater. The SGI results are summarized as follows:

(1) Subsurface soil samples collected from the area around MW-5S (for lead) and MW-8S (for chloroform) did not have lead or chloroform detected above the New Jersey Residential Direct Contact, Non-Residential Direct Contact or the Impact to Groundwater Soil Cleanup Criteria. The data also found field screening results showing no detectable concentrations of lead and chloroform are present in soils. NJDEP concluded that the subsurface soil data for the area around MW-5S and MW-8S indicate that the soils are not impacted and a no further action for the soils is appropriate;

(2) Groundwater samples collected from MW-5S-5 and MW-5S-6 (for total and dissolved lead analysis), and MW-8S-2 and MW-8S-4 (for chloroform analysis) found no detectable levels of lead above the method detection limit or chloroform above the GWQS of 6 ppb, and neither above the Federal MCLs. Chloroform did, however, exceed the PQL criteria of 1 ppb at three locations (MW-8S-2, MW-8S-4, and MW-8S-4D);

(3) Surface water samples collected found that chloroform, toluene, lead and zinc did not exceed the NJDEP Surface Water Quality Standards (SWQS) or EPA National Ambient Water Quality Criteria (NAWQC). However, zinc concentrations were found slightly above the background levels; and

(4) Sediment sample-analyses did not detect chloroform or toluene above the analytical detection limits. However, the detection limits were above the NJDEP Guidance for Sediment Quality Evaluations (SQE) and EPA Region 5 Ecological Screening Levels (ESLs). NJDEP believes that neither toluene nor chloroform is problematic in sediments. Lead and zinc concentrations did not exceed the SQE and ESLs but were detected above the background level at the two most down gradient sediment locations.

NJDEP's review of the current and historical surface water and sediment data concluded that additional sampling is not necessary and no further action for this area of concern is appropriate.

In December 2005 and November 2006, ENSR re-sampled MW-5S and MW-8S. The analytical results indicated that lead and chloroform concentrations continued to be above the Class I-PL groundwater standards (or PQL). Because of the historical concentrations of lead in MW-5S and chloroform in MW-8S exceeding the PQL, NJDEP requested that Rohm and Haas propose a CEA at the Site.

Institutional Controls

At the time of the ROD, a WRA was in place and recognized by the ROD as a temporary measure along with continued monitoring for five years. NJDEP indicates that the WRA is still in place. Since the groundwater currently meets federal and state standards for public consumption, it does not appear that the WRA provides any specific purpose at the Site.

Although not required by the 1993 ROD remedy, the NJDEP required the institution of a CEA at the Site due to limited groundwater contaminant levels continuing to exceed PQLs. The CEA was submitted in October 2006. As part of the CEA requirements, Rohm and Hass proposed several actions to reduce the length of time the CEA would remain in effect. Those actions included installing a replacement well that would evaluate the possibility that the elevated lead concentrations were an artifact of some unexpected problem at MW-5S and performing a one-day high vacuum groundwater extraction in order to remove chloroform impacted groundwater and soil vapors from MW-8S.

ENSR replaced MW-5S with MW-5R and performed the high vacuum groundwater extraction at MW-8S on May 7, 2007. MW-5S was decommissioned. Following these field activities, ENSR collected groundwater samples from MW-5R and MW-8S on June 6 and September 5, 2007. The results indicate that lead concentrations in MW-5R were no longer detected but the chloroform concentrations in MW-8S continue to exceed the PQL but not the MCL. Based on these results, the NJDEP issued a no further action for lead at MW-5R on April 13, 2008, and requested that the CEA be revised for chloroform at MW-8S. Rohm and Haas will continue to monitor MW-8S until chloroform is not detected at concentrations above the PQL for two consecutive quarterly sampling events.

NJDEP has accepted the Rohm and Hass proposal of no further action with a CEA for chloroform at MW-8S, without the need of a WRA designation. Rohm and Haas submitted the final revised CEA proposal in January 2009. Once approved by the NJDEP, the CEA will continue until chloroform is below the PQL for two consecutive quarterly sampling events. The NJDEP will issue a no further action for chloroform at MW-8S when two consecutive quarterly sampling events results in chloroform detection below the PQL concentration.

Since contaminant levels in all media are below risk based levels, no institutional controls are required at this Site under CERCLA.

Cleanup Goals

Post-excavation sampling conducted as part of the removal actions verifies that the Site soils were below the NJDEP cleanup standards for residential properties. Groundwater CERCLA cleanup standards were Federal Maximum Contaminant Level (MCL) and Maximum Contaminant Level Goal (MCLG).

Operations and Maintenance

No operation and maintenance was required for the Site property, where mixed surface waste and contaminated soils were removed for off-site disposal, and post-excavation sampling confirmed that remediation goals were achieved. Post-remediation groundwater monitoring was conducted for five years and all contaminants are below MCLs.

Five-Year Review

There were two five-year reviews of the selected remedy for this Site. The first review was issued on May 12, 2000. A second five-year review was signed on June 3, 2005. The June 2005 Five-Year Review Report found that the no further action remedy protects human health and the environment at this Site. It indicates that no future five-year reviews will be necessary if the Site is found to be suitable for unlimited use without restriction and that finding is part of the deletion process or is contained within an appropriate EPA decision document. The deletion process has determined that the Site is suitable for unlimited use without restriction. Therefore, no future five-year reviews will be conducted at this Site.

Community Involvement

Public participation activities for this Site have been satisfied as required in CERCLA sections 113(k) and 117, 42 U.S.C. 9613(k) and 9617. Throughout the removal and remedial process, EPA and the NJDEP have kept the public informed of the activities being conducted at the Site by way of public meetings, progress fact sheets, and the announcement through local newspaper advertisement on the availability of documents such as the RI/FS, Risk Assessment, ROD, Proposed Plan and Five-Year Reviews. Notices associated with these community relations activities were also mailed out to the area residents and other concerned parties on the mailing list for the Site.

Determination That the Site Meets the Criteria for Deletion From the NCP

The NCP specifies that EPA may delete a site from the NPL if “all appropriate Fund-financed response under CERCLA has been implemented, and no further response action by responsible parties is appropriate.” 40 CFR 300.425(e)(1)(ii). EPA, with the concurrence from the State of New Jersey, through NJDEP, believes that this criterion for deletion has been met and the Site is available for use without restriction. Consequently, EPA is deleting this Site from the NPL. Documents supporting this action are available in the Site files.

V. Deletion Action

EPA, with the concurrence of the State of New Jersey, has determined that all appropriate Fund-financed responses under CERCLA have been implemented, and no further action by responsible parties is appropriate. Therefore, EPA is deleting the Site from the NPL.

Because EPA considers this action to be noncontroversial and routine, EPA is deleting the Site without prior publication. This action will be effective September 8, 2009 unless EPA receives adverse comments by August 6, 2009. If adverse comments are received within the 30-day public comment period of this action, EPA will publish a timely withdrawal of this Direct Final Deletion before the effective date of the deletion and the deletion will not take effect. EPA will, if appropriate, prepare a response to comments and continue with the deletion process on the basis of the Notice of Intent to Delete and the comments received. In such a case, there will be no additional opportunity to comment.

List of Subjects in 40 CFR Part 300

Environmental protection, Air pollution control, Chemicals, Hazardous substances, Hazardous waste, Intergovernmental relations, Penalties, Reporting and recordkeeping requirements, Superfund, Water pollution control, Water supply.

Dated: June 25, 2009.
George Pavlou,
Acting Regional Administrator, Region 2.

For the reasons set out in the preamble Part 300 Title 40 of Chapter I of the Code of Federal Regulations is amended as follows:

PART 300—[AMENDED]

1. The authority citation for Part 300 continues to read as follows:

Authority: 33 U.S.C. 1321(c)(2); 42 U.S.C. 9601-9657; E.O. 12777, 56 FR 54757, 3 CFR, 1991 Comp., p. 351; E.O. 12580, 52 FR 2923, 3 CFR, 1987 Comp., p. 193.

Appendix B—[Amended]

2. Table 1 of Appendix B to part 300 is amended by removing “Wilson Farm, Plumsted Township, NJ.”

[FR Doc. E9-15801 Filed 7-6-09; 8:45 am]

BILLING CODE 6560-50-P